DEPARTMENT OF TRANSPORTATION

Federal Railroad Administration

[Docket No. FRA-20200027-N-26]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified below.

DATES: Interested persons are invited to submit comments on or before December 4, 2020.

ADDRESSES: Submit written comments on the ICR activities to Ms. Qiana Swayne, Office of Railroad Policy and Development, Federal Railroad Administration at email: Qiana.Swayne@dot.gov or telephone: (202) 493-6216. Please refer to the assigned OMB control number in any correspondence submitted. FRA will summarize comments received in response to this notice in a subsequent notice and include them in its information collection submission to OMB for approval.

SUPPLEMENTARY INFORMATION:

The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Design and Evaluation of a Robust Manual Locomotive Operating Mode.

OMB Control Number: 2130-0623.

Abstract: The purpose of this study is to design and evaluate a prototype locomotive operating mode that allows an engineer to “manually” control a train by providing a desired speed target while the control system determines the throttle notch changes required. This research addresses DOT's safety strategic goal. Information collected from this research will be used by researchers and equipment designers to evaluate the merit of a prototype display and control configuration maximizing the use of both automation and human capabilities. The information will also assist the Federal government in recommending display design standards to the rail industry for future displays and the results may help design future displays and controls for locomotives. This ICR, which was previously approved by OMB, will be extended as the study was not completed by the anticipated completion date.

Type of Request: Extension without change of a current information collection.

Affected Public: Railroad Engineers, College Student Volunteers.

Respondent Universe: 20 Engineers/10 Volunteers.

Frequency of Submission: Once.

Reporting Burden:

| Number of respondents | Average time | Total annual burden hours | Total annual dollar cost equivalent *
Simulator Familiarity and Training—Engineers | 20 | 3 | 60 | $1,935.60
Simulator Familiarity and Training—College Students | 10 | 3 | 30 | 360.00
Experimental Sessions in Simulator—Engineers | 20 | 6 | 120 | 3,871.20
Experimental Sessions in Simulator—College Students | 10 | 6 | 60 | 720.00
NASA-Task Load Index Questionnaire Completions—Engineers | 20 | 0.1 | 1.3 | 43.23
NASA-Task Load Index Questionnaire Completions—College Students | 10 | 0.1 | 0.7 | 8.04
Total | 90 | 18.2 | 272 | 6,938.07
* Per the Bureau of Labor and Statistics, Occupational Employment and Wages, May 2019, (53-4011) Locomotive Engineers, the median hourly wage is $32.26 per hour. The minimum wage, as of September 2020, for Massachusetts is $12.00 per hour. Therefore, the cost would be $32.26 x 181.34 hours = $5,850.03 and $12.00 x 90.67 hours = 1,088.04 for a total of $6,938.07. This is an estimated cost. The actual cost will vary based upon current locomotive engineer wages.

Total Estimated Annual Responses: 90.

Total Estimated Annual Burden: 272.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2020-21887 Filed 10-2-20; 8:45 am]

BILLING CODE 4910-06-P